FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 19, 2014.

A. Federal Reserve Bank of Richmond (Adam M. Drimer, Assistant Vice President) 701 East Byrd Street, Richmond, Virginia 23261-4528:

1 B. Scott White and Blaine Scott White, II, both of Castlewood, Virginia, The B. Scott White Trust, the sole trustee of which is B. Scott White, and Tiffany C. White, Evergreen, Colorado; Sky Investments, LLC, Castlewood, Virginia, with its members Tiffany C. White, Blaine S. White II, and The B. Scott White Trust; SBTB, L.P., a proposed qualified family partnership, the partners of which are The B. Scott White Trust, Tiffany C. White and Blaine S. White, II; B. Scott White IRA and; the group acting in concert to control voting shares of New Peoples Bankshares, Inc., Honaker, Virginia, and thereby indirectly control New Peoples Bank, Inc., Honaker, Virginia.

Board of Governors of the Federal Reserve System, January 27, 2014.
Michael J. Lewandowski,
Associate Secretary of the Board.

[FR Doc. 2014-01857 Filed 1-29-14; 8:45 am]

BILLING CODE 6210-01-P